DEPARTMENT OF TRANSPORTATION

Federal Aviation Administration

Eleventh Meeting: RTCA Special Committee 225, Rechargeable Lithium Battery and Battery Systems—Small and Medium Size

AGENCY: Federal Aviation Administration (FAA), U.S. Department of Transportation (DOT).

ACTION: Meeting Notice of RTCA Special Committee 225, Rechargeable Lithium Battery and Battery Systems—Small and Medium Size.

SUMMARY: The FAA is issuing this notice to advise the public of the eleventh meeting of the RTCA Special Committee 225, Rechargeable Lithium Battery and Battery Systems—Small and Medium Size.

DATES: The meeting will be held February 7, 2013, from 11:00 a.m. to 3:00 p.m.

ADDRESSES: The meeting will be held via web teleconference only. Remote participation details are as follows:

• Go to the following web address to enter the teleconference: https://rtca.webex.com/rtca/j.php?ED=144653812&UID=490931532&PW=NNGFhNzZlNjJm&RT=MiMxMQ%3D%3D.

• If requested, enter your name and email address.

• If a password is required, enter the following password which is case sensitive: Meeting11.

• Click: join.

• To join via audio access only:

• Dial 1-888-481-3032 and enter passcode 56022675 when prompted.

FOR FURTHER INFORMATION CONTACT: The RTCA Secretariat, 1150 18th Street NW., Suite 910, Washington, DC 20036, or by telephone at (202) 833-9339, fax (202) 833-9434, or Web site at http://www.rtca.org. Alternatively, contact Jennifer Iverson directly at jiversen@rtca.org, telephone (202) 330-0662.

SUPPLEMENTARY INFORMATION: Pursuant to section 10(a)(2) of the Federal Advisory Committee Act (Pub. L. 92-463, 5 U.S.C., App.), notice is hereby given for a meeting of Special Committee 225. The agenda will include the following:

Thursday, February 7, 2013

• Introductions and administrative items.

• Review agenda.

• Review and approval of summary from the last Plenary meeting.

• Review action items.

• Consider approval of draft document for Final Review and Comment.

• Review schedule for upcoming Plenaries, working group meetings, and document preparation.

• Establish agenda for next Plenary.

• Review Progress and new action items.

• Adjourn.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on January 16, 2013.
Paige L. Williams,
Management Analyst, Business Operations Group, Federal Aviation Administration.

[FR Doc. 2013-02014 Filed 1-30-13; 8:45 am]

BILLING CODE 4910-13-P